SECURITIES AND EXCHANGE COMMISSION

In the Matter of Weida Communications, Inc., File No. 500-1; Order of Suspension of Trading

April 25, 2005.

It appears to the Securities and Exchange Commission (“Commission”) that the public interest and the protection of investors require a suspension of trading in the securities of Weida Communications, Inc. (“Weida”) because of concerns regarding potentially manipulative transactions in Weida's common stock by certain individuals associated with the company and others.

The Commission is of the opinion that the public interest and the protection of investors require a suspension of trading in securities of the above-listed company.

Therefore, it is ordered, pursuant to section 12(k) of the Securities Exchange Act of 1934, that trading in all securities, as defined in section 3(a)(10) of the Securities Exchange Act of 1934, issued by Weida, is suspended for the period from 9:30 a.m. E.D.T. on April 25, 2005 and terminating at 11:59 p.m. E.D.T. on May 6, 2005.

By the Commission.
J. Lynn Taylor,
Assistant Secretary.

[FR Doc. 05-8515 Filed 4-25-05; 1:26 pm]

BILLING CODE 8010-01-P